ENVIRONMENTAL PROTECTION AGENCY

[ER-FRL-6641-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 04, 2003 (68 FR 16511).

Draft EISs

ERP No. D-AFS-J36053-UT Rating EC2, Monticello and Blanding Municipal Watershed Improvement Projects, Implementation, Manti-La Sal National Forest, Monticello Ranger District, San Juan County, UT.

Summary: EPA expressed environmental concerns with the loss of wetlands and impacts from logging. EPA supports replacing the failing water collection system in this watershed and will be providing grant funding for this project.

ERP No. D-AFS-L65420-AK Rating EC2, Greens Creek Tailings Disposal Project, Additional Dry Tailings Disposal Storage Facilities Construction, Authorization, Admiralty National Park Monument, Tongass National Forest, AK.

Summary: EPA expressed environmental concerns about the preferred alternative given uncertainty with achieving water quality standards for sulfate and selenium, lack of water quality data for 8 parameters, inconsistent use of standards and NPDES effluent limits, and use and effectiveness of carbon to effectively immobilize dissolved metals. The final EIS should disclose more commitments to using the existing treatment plant, and describe the methodology for meeting water quality standards.

ERP No. D-AFS-L65421-WA Rating EC2, 49 Degrees North Mountain Resort Revised Master Development Plan, Implementation, Colville National Forest, Newport Ranger District, Stevens County, WA.

Summary: EPA has environmental concerns regarding the Purpose and Need of the project and recommended an additional alternative that does not require additional ski terrain and the need for alternatives with Comfortable Carrying Capacities that exceed the proposed parking capacity should be provided. The final EIS should disclose information on consultation with Native American Tribes.

ERP No. D-BLM-J65376-CO Rating LO, Gunnison Gorge National Conservation Area Resource Management Plan, Implementation, Montrose and Delta Counties, CO.

Summary: EPA expressed lack of objections.

ERP No. D-BLM-K65251-CA Rating EC2, Santa Rosa and San Jacinto Mountains National Monument Management Plan, Implementation, Public Lands Management, Riverside County, CA.

Summary: EPA expressed environmental concerns with the following issues and requested clarification regarding the preferred alternative, tribal consultation, mitigation for impacts to recreation, implementation schedule and funding, land exchanges, acquisition strategy, existing conditions, Section 7 Endangered Species Act consultation and water resources.

ERP No. D-BLM-L67043-ID Rating EC2, North Rasmussen Ridge Mine, Agrium Conda Phosphate Operations, Proposal to Extend the Existing Mining Operations, Federal Phosphate Leases I-04375 and I-07619 within the Caribou-Targhee National Forest, and State Lease I-9313, Soda Springs, Caribou County, ID.

Summary: EPA expressed environmental concerns with habitat loss from mining activities, sedimentation and selenium contamination of water resources and uptake by wildlife. The draft EIS used extensive modeling to predict possible pathways of contaminants and size of plume but analysis relied heavily on lab experimentation given lack of actual field data. Field verification of modeled results should be included in the final EIS as well as more detail on the placement of monitoring wells.

ERP No. D-COE-E39061-MS Rating LO, Royal D'Iberville Hotel and Casino Development Project, Construction and Operation, U.S. Army COE Section 10 and 404 and NPDES Permits Issuance, City of D'Iberville on the Back Bay, Mississippi, Gulf Coast, Harrison County, MS.

Summary: EPA has no significant environmental concerns regarding construction of this casino/hotel complex.

ERP No. D-COE-G35022-TX Rating LO, Gulf Intracoastal Waterway in the Laguna Madre, Maintenance Dredging from the JFK Causeway to the Old Queen Isabella Causeway, Nueces, Kleberg, Kennedy, Willacy and Cameron County, TX.

Summary: EPA has no objections to the selection of the preferred alternative with implementation of the mitigation measures as described in the DEIS.

ERP No. D-COE-K39078-CA Rating LO, Napa River Salt Marsh Restoration Project, Salinity Reduction and Habitat Restoration in the Napa River Unit, San Pablo Bay, Napa and Solano Counties, CA.

Summary: EPA supports the objectives of the proposed project to restore salt marsh and managed pond habitat analyzed in the Napa River Salt Marsh Restoration DEIS. EPA has no objections to the proposed project, but requested clarification on the need for a National Pollutant Discharge Elimination System permit.

ERP No. D-FHW J40160 UT Rating EC2, Southern Corridor Construction, I-15 at Reference Post 2 in St. George to UT-9 near Hurricane, Funding, Right-of-Way Grant and U.S. Army COE Section 404 Permit Issuance, St. George, Washington and Hurricane, Washington County, UT.

Summary: EPA has environmental concerns about the lack of appropriate analysis for a BLM right-of-way, mitigation for habitat fragmentation, the lack of a comparative analysis for potential interchanges on the highway, and no indirect and cumulative impacts they may have. EPA also recommends additional mitigation for air quality impacts from construction activities and additional mitigation for water quality impacts.

ERP No. D-FHW-L40218-WA Rating EC2, I-90 Two-Way Transit and HOV Operation Project, Provision of Reliable Transportation between Seattle and Bellevue, Sound Transit Regional Express, U.S. Coast Guard and U.S. Army COE Nationwide Permits Issuance, King County, WA.

Summary: While supporting the goals of the project, EPA has environmental concerns about the potential risk of cumulative impacts and induced growth in eastern King County, resulting from the proposed project. EPA also has concerns about user safety, and recommends more of an emphasis on transportation demand and safety management measures.

ERP No. D-NPS-D61056-DC Rating LO, Rock Creek Park and the Rock Creek and Potomac Parkway Project, General Management Plan, Implementation, Washington, DC.

Summary: EPA expressed no objection to the proposed action.

However, we requested clarifying information on motorist and visitor safety related to road improvements, including Beach Drive weekday closing and mid-afternoon reopening to motorists and more detail on the implementation plans to protect federally protected species and historic resources in the final EIS.

ERP No. D-NPS-K65253-CA Rating LO, Whiskeytown Fire Management Plan, Implementation, Whiskeytown National Recreation Area, Klamath Mountains, Shasta County, CA.

Summary: EPA believes that the mitigation measures proposed for smoke impacts are adequate, therefore EPA has no objection to the action as proposed.

ERP No. D-NPS-L61225-AK Rating EC2, Denali National Park and Preserve Backcountry Management Plan and General Management Plan Amendment, Implementation, AK.

Summary: EPA expressed environmental concerns about potential impacts of expanded snowmobile use under the revised plan to aquatic resources, streams, wetlands, soil, vegetation and wildlife. The final EIS should address concerns with recreational snowmobile use and Plan consistency with the Alaska National Interest Lands Conservation Act and the Wilderness Act.

ERP No. D-NRS-E36181-TN Rating LO, Cane Creek Watershed Remedial Plan, Widening and Degradation of the Cane Creek Channel, Lauderdale County, TN.

Summary: EPA has no significant environmental concerns regarding construction of the remedial structural and non-structural features as documented.

ERP No. D-NSA-G81012-NM Rating LO, Chemistry and Metallurgy Research Building Replacement Project, Consolidation and Relocation, Los Alamos National Laboratory, Los Alamos County, NM.

Summary: EPA has no objection to the selection of the preferred alternative and mitigation measures as proposed in the DEIS.

ERP No. DS-AFS-L65357-ID Rating EC2, East Beaver and Miner's Creek Timber Sale and Prescribed Burning Project, Timber Harvesting to Provide Forest Products, Implementation, Dubois Ranger District, Caribou-Targee National Forest, Clark County, ID.

Summary: EPA expressed environmental concerns related to cumulative impacts from grazing on water quality and adverse impacts to fish and their habitat. The final EIS should further address how the purpose and need and management direction is tied to achieving the desired future condition, the status of road decommissioning in the project area and impacts to tribes, as well as information on tribal consultation.

ERP No. DS-BLM-J65325-WY Rating EC2, Jack Morrow Hills Coordinated Activity Plan/Draft Green River Resource Management Plan Amendment, Updated Information, Rock Springs, Portion of Sweetwater, Fremont and Subelette Counties, WY.

Summary: EPA continued to express environmental concerns that the preferred alternative may cause adverse impacts to wildlife and their habitat for the Greater Sage-Grouse, and deer and elk herds. More detail is needed in the adaptive management plan.

ERP No. D1-FHW-L40184-WA Rating EO2, WA-167 Freeway Project, WA-161 (Meridian Street North) in the City of Puyallup to the WA-509 Freeway in the City of Tacoma, Funding, U.S. Coast Guard, NPDES and U.S. Army COE Section 10 and 404 Permits Issuance, Cities of Puyallup, Fife, Edgewood, Milton, and Tacoma, Pierce County, WA.

Summary: EPA has environmental objections to the proposed project's potential direct, secondary, and cumulative impacts to aquatic resources (wetlands, groundwater, surface water, and overall hydrological function and connectivity). The quality, quantity and overall effectiveness of mitigative actions should be improved with more analysis and application of the information to target actions. EPA has further objections regarding effects to threatened fish species, the Puyallup Tribe, air toxins, prime farmland, noise impacts, and lack of transportation demand management measures and facilities.

Final EISs

ERP No. F-AFS-F65030-IL Natural Area Trails Project, Construction, Reconstruction, Maintenance and Designation of Trails for Hikers and Equestrian Use, Approval of Site-Specific Mitigation and/or Monitoring Standards, Shawnee National Forest, Jackson, Pope, Johnson, Union, Hardin and Saline Counties, IL.

Summary: EPA has no objections to the proposed repair, relocation and establishment of trails in the Shawnee National Forest which are intended to reduce erosion and exotic plant introductions while providing a quality recreational experience for equestrian users and hikers.

ERP No. F-AFS-L65406-ID North Kennedy-Cottonwood Stewardship Project, Existing Transportation System Modifications and Forest Health Improvements through Vegetation Management both Commercial and Non-Commercial Methods, Boise National Forest, Emmett Ranger District, Gem and Valley Counties, ID.

Summary: EPA expressed environmental concerns with the level of restoration of degraded riparian areas, lack of differentiation between action alternatives and analysis of impacts. More details should be included in the final EIS on the selection of the preferred alternative.

ERP No. F-AFS-L67044-ID Golden Hand No. 3 and No. 4 Lode Mining Claims Plan of Operations Approval, Implementation, Frank Church-River of No Return (FC-RONR) Wilderness, Payette National Forest, Krassel Ranger District, Valley County, ID.

Summary: No formal comment letter was sent to the preparing agency.

ERP No. F-BLM-K81027-NV Nevada Test and Training Range Resource Management Plan, (formerly known as the Nellis Air Force Range (NAFR)), Implementation, Clark, Nye and Lincoln Counties, NV.

Summary: No formal comment letter was sent to the preparing agency.

ERP No. F-COE-G01015-TX Three Oaks Mine Project, Construction and Operation of a Surface Lignite Mine, U.S. Army COE Section 404 Permit Issuance, Lee and Bastrop Counties, TX.

Summary: EPA has no objections to the selection of the preferred alternative.

ERP No. F-FHW-C40144-NY US 219 between Springville to Salamanca Improvements from NY-39 to NY-17, Funding and US Army COE Section 404 Permit Issuance, Erie and Cattaraugus Counties, NY.

Summary: EPA has environmental objections to the selection of the freeway alternative as the preferred alternative. This alternative has greater impacts to wetlands and farmlands, as well as impacts from induced development, when compared to the upgrade alternative.

ERP No. F-FHW-L53003-WA Vancouver Rail Project, Rail Improvements at the Burlington Northern and Santa Fe Rail Yard and Possible Elimination of the West 39th Street At-Grade Crossing, Funding and NPDES Permit Issuance, Clark County, WA.

Summary: The final EIS adequately discloses the impacts and satisfactorily responded to most of EPA's previous comments on the draft EIS. In addition, EPA is pleased that the final EIS positively addressed issues of safety and accessibility. Therefore, EPA has no objection to the action as proposed.

ERP No. F-GSA-F11037-WI Badger Army Ammunition Plant, Property Disposal, Implementation, Townships of Sumpter and Merrimac, Sauk County, WI.

Summary: EPA has environmental concerns and requested that open burning, as a means of demolition of structures, be addressed before the property is transferred.

ERP No. F-TVA-E29001-TN Rarity Pointe Commercial Recreation and Residential Development on Tellico Reservoir Project, Request for TVA's Land and Approval of Water Use Facilities, Tellico Reservoir, Loudon County, TN.

Summary: EPA continues to express environmental concern regarding water quality impacts and requested specific commitments to mitigation measures in the ROD.

ERP No. FB-AFS-L65137-AK Tongass Land Management Plan Revision for Roadless Area Evaluation for Wilderness Recommendations, Implementation, Tongass National Forest, AK.

Summary: No formal comment letter was sent to the preparing agency.

ERP No. FS-COE-G36148-TX Dallas Floodway Extension, Flood Damage Reduction and Environmental Restoration, New Information concerning Additional Formulation, Trinity River Basin, Dallas County, TX.

Summary: EPA has no objection to the selection of the preferred alternative.

ERP No. FS-NPS-J61102-00 Yellowstone and Grand Teton National Parks and John D. Rockefeller, Jr., Memorial Parkway, Winter Use Plans, Updated and New Information on New Generation of Snowmobiles that Produce fewer Emissions and are Quieter, Fremont County, ID; Gallatin and Park Counties, MT and Park and Teton Counties, WY.

Summary: EPA continued to express environmental objections given the final supplemental EIS predicts the preferred alternative will result in localized visibility impairment and adverse human health effects in this Class 1 airshed. Additional mitigation to avoid these impacts should be considered along with an ongoing rule making process.

Dated: July 8, 2003.
Joseph C. Montgomery,
Director, NEPA Compliance Division, Office of Federal Activities.

[FR Doc. 03-17620 Filed 7-10-03; 8:45 am]

BILLING CODE 6560-50-P